DEPARTMENT OF AGRICULTURE

Animal and Plant Health Inspection Service

7 CFR Part 319

[Docket No. 05-059-2]

Importation of Baby Corn and Baby Carrots From Zambia

AGENCY: Animal and Plant Health Inspection Service, USDA.

ACTION: Final rule.

SUMMARY: We are amending the fruits and vegetables regulations to allow the importation into the continental United States of fresh, dehusked immature (baby) sweet corn and fresh baby carrots from Zambia. As a condition of entry, both commodities will be subject to inspection at the port of first arrival and will have to be accompanied by a phytosanitary certificate with an additional declaration stating that the commodity has been inspected and found free of the quarantine pest listed on the certificate. This action will allow for the importation of Zambian baby corn and baby carrots into the United States while continuing to provide protection against the introduction of quarantine pests.

DATES: Effective Date: May 24, 2006.

FOR FURTHER INFORMATION CONTACT: Ms. Sharon Porsche, Import Specialist, Commodity Import Analysis and Operations, Plant Health Programs, PPQ, APHIS, 4700 River Road Unit 133, Riverdale, MD 20737-1231; (301) 734-8758.

SUPPLEMENTARY INFORMATION:

Background

The regulations in “Subpart—Fruits and Vegetables” (7 CFR 319.56 through 319.56-8, referred to below as the regulations) prohibit or restrict the importation of fruits and vegetables into the United States from certain parts of the world to prevent the introduction and dissemination of plant pests that are new to or not widely distributed within the United States.

On January 11, 2006, we published in the Federal Register (71 FR 1700-1704, Docket No. 05-059-1) a proposal ¹ to amend the fruit and vegetable regulations to allow the importation of baby corn and baby carrots from Zambia into the continental United States under certain conditions. As a condition of entry, we proposed that both commodities would be subject to inspection at the port of first arrival and would have to be accompanied by a phytosanitary certificate with an additional declaration stating that the commodity has been inspected and found free of the quarantine pest listed on the certificate.

¹ To view the proposed rule and the comments we received, go to http://www.regulations.gov, click on the “Advanced Search” tab, and select “Docket Search.” In the Docket ID field, enter APHIS-2005-0111, then click on “Submit.” Clicking on the Docket ID link in the search results page will produce a list of all documents in the docket.

We solicited comments concerning our proposal for 60 days ending March 13, 2006. We received two comments by that date. One comment was from a private citizen who supported the proposed rule, but asked whether the national plant protection organization (NPPO) of Zambia has agreed to provide the certification that would be required in the rule. The mitigation measures for both baby carrots and baby corn were discussed with the NPPO of Zambia and agreed to in writing prior to the publication of the proposed rule.

The second comment, from an official with a State department of agriculture, expressed concern that the root knot nematode Meloidogyne ethiopica could enter the United States on baby carrots and suggested that an annual laboratory analysis of soil and root samples be required along with the required field inspections.

The NPPO of Zambia has agreed that shipments of baby carrots would be accompanied by a phytosanitary certificate with an additional declaration stating that the carrots in the shipment have been inspected and found free from M. ethiopica. Under the International Plant Protection Convention (IPPC), an additional declaration (AD) is a statement which is required by an importing country (in this case, the United States) to be entered on a phytosanitary certificate and which provides specific additional information pertinent to the phytosanitary condition of a consignment. Zambia follows the IPPC standards for phytosanitary certification. The NPPO of Zambia will, therefore, be performing the tests that are necessary to issue the phytosanitary certificate with the requisite AD. These necessary tests include the annual soil and root sampling tests suggested by the commenter.

Further, the pest risk assessment states “The risk assessment assumed that M. ethiopica was present with carrots in Zambia, based on evidence that the nematode was described from neighboring Zimbabwe and that the nematode can infect carrots.” It is unknown whether M. ethiopica is present in Zambia, however, we have evaluated the risk of introducing M. ethiopica into the United States through the importation of baby carrots from Zambia. The requirement of the additional declaration is a preemptive, preventative measure being taken in case this nematode ever does become established in Zambia.

Meloidogyne species typically cause roots to be malformed with numerous gall or knots, which would cause infected carrots to be culled due to post-harvest processing. In addition, the harvesting and post-harvesting processing of baby carrots in Zambia is all done by hand. The post-harvest processing procedures involve five points of handling and inspection, including an initial wash, hand trimming or slicing, commodity grading, another wash, and finally hand packaging. The packinghouse personnel are trained to recognize and reject malformed carrots for export to the United States. These phytosanitary measures are taken to ensure that M. ethiopica does not enter into the United States through the importation of baby carrots from Zambia.

Therefore, for the reasons given in the proposed rule and in this document, we are adopting the proposed rule as a final rule, without change.

Effective Date

This is a substantive rule that relieves restrictions and, pursuant to the provisions of 5 U.S.C. 553, may be made effective less than 30 days after publication in the Federal Register.

Immediate implementation of this rule is necessary to provide relief to those persons who are adversely affected by restrictions we no longer find warranted. Therefore, the Administrator of the Animal and Plant Health Inspection Service has determined that this rule should be effective upon publication in the Federal Register.

Executive Order 12866 and Regulatory Flexibility Act

This rule has been reviewed under Executive Order 12866. The rule has been determined to be not significant for the purposes of Executive Order 12866 and, therefore, has not been reviewed by the Office of Management and Budget.

We are amending the fruits and vegetables regulations to allow the importation into the continental United States of fresh, dehusked immature (baby) sweet corn and fresh baby carrots from Zambia. As a condition of entry, both commodities will be subject to inspection at the port of first arrival and will have to be accompanied by a phytosanitary certificate with an additional declaration stating that the commodity has been inspected and found free of the quarantine pest listed on the certificate. This action will allow for the importation of Zambian baby corn and baby carrots into the United States while continuing to provide protection against the introduction of quarantine pests.

The Regulatory Flexibility Act (RFA) requires that agencies consider the economic impact of their rules on small businesses, organizations, and governmental jurisdictions. In accordance with section 604 of the RFA, we have prepared a final regulatory flexibility analysis describing the expected impact of the changes in this rule on small entities. During the comment period for our proposed rule, we did not receive any comments pertaining to the initial regulatory flexibility analysis presented in that document.

U.S. entities that could be affected by this rule are domestic producers of baby corn and baby carrots, and wholesalers that would import the two commodities. Restaurants or other retailers that would subsequently purchase the items could be indirectly affected. Businesses producing baby corn or baby carrots are classified in the North American Industry Classification System (NAICS) within the category of Other Vegetable (except Potato) and Melon Farming (NAICS code 111219). The Small Business Administration's (SBA) small-entity definition for these producers is annual receipts of not more than $750,000. Firms that would import the baby corn and baby carrots from Zambia are defined as small entities if they have 100 or fewer employees (NAICS code 424480, Fresh Fruit and Vegetable Merchant Wholesalers). The wholesale sector comprises two types of wholesalers, those that sell goods on their own account and those that arrange sales and purchases for others for a commission or fee. Importers are included in both cases.

We believe that most if not all of the businesses affected by this rule will be small since, in general, firms engaged in production and importation of agricultural commodities are predominantly small.

APHIS has not been able to obtain production or trade data that is specific to baby carrots, and only limited information on baby corn. Statistical information on baby corn production is limited because producing countries either include it within the sweet corn category, as is done in the United States, or do not report production of this commodity at all. Quantities of baby corn produced, imported, and consumed in the United States are not known. According to industry sources, it is grown in California, and the largest foreign supplier is Costa Rica. Other sources are Mexico, Guatemala, and Honduras. Mexico provided 92 percent of U.S. fresh sweet corn imports during 1998-2000, with the majority arriving during the winter (December to April). Fresh baby corn is included in these imports; however its amount is unknown.

The Food and Agriculture Organization of the United Nations' statistics indicate that Zambia produced an average of 750,000 metric tons of corn per year between 1997 and 2002 and exported 1 percent of its corn production. How much of Zambia's corn production and exports is baby corn is not known. It is noted that production of baby corn and baby carrots depends on hand labor due to the unsuitability of mechanical agricultural harvesting techniques. Zambia's plentiful farm labor resources provide it with an economic advantage in the production of these crops.

The Government of Zambia has indicated its intention to export approximately 400 metric tons (16 40-foot shipping containers) of baby corn and 400 metric tons of baby carrots to the continental United States annually. There are two large commercial agricultural companies in Zambia (York Farm and Chalimbana Fresh Produce Ltd., formerly known as Agriflora Limited) that are responsible for producing the bulk of specialty crops (crops that require more intensive labor to qualify for exportation). The two companies use either contract growers or their own farms, which are distributed between Zambia's three geographical zones to ensure a year round supply of fresh produce. In 2002, Agriflora exported 100 metric tons of baby corn to the United Kingdom. According to the technical advisor of the Organic Producer and Processor Association of Zambia, of a total of 2,500 hectares of agricultural land devoted to specialty crop production that was inspected in 2004, 743 hectares have been certified for exports.

During the comment period for our proposed rule, we did not receive any information on the number of small entities that may be affected. Without additional information on the number of U.S. producers of baby corn and baby carrots, the quantities they produce, and the quantities already being imported into the United States, we cannot assess the potential impact of this rule on U.S. small entities. An increase in supply can be expected to exert downward pressure on prices and thus benefit U.S. consumers. U.S. importers of these commodities are also expected to benefit.

As discussed in the proposed rule's initial regulatory flexibility analysis, an alternative to this rule would be to require that a different set of phytosanitary measures be satisfied. However, we have concluded that the import conditions prescribed in this rule are appropriate and necessary to address the risks associated with the importation of baby corn and baby carrots from Zambia, and that import requirements less or more stringent than those in this rule would either not provide an appropriate level of phytosanitary protection or impose unduly burdensome measures.

This rule contains information collection or recordkeeping requirements (see “Paperwork Reduction Act” below).

Executive Order 12988

This final rule allows baby corn and baby carrots to be imported into the continental United States from Zambia. State and local laws and regulations regarding baby corn and baby carrots imported under this rule will be preempted while the fruit is in foreign commerce. Fresh baby corn and baby carrots are generally imported for immediate distribution and sale to the consuming public, and remain in foreign commerce until sold to the ultimate consumer. The question of when foreign commerce ceases in other cases must be addressed on a case-by-case basis. No retroactive effect will be given to this rule, and this rule will not require administrative proceedings before parties may file suit in court challenging this rule.

National Environmental Policy Act

An environmental assessment was prepared for, and made available for public comment through, the proposed rule for this rulemaking. No comments regarding the environmental assessment were received during the comment period for the proposed rule. The environmental assessment provides a basis for the conclusion that the importation of baby corn and baby carrots under the conditions specified in this rule will not have a significant impact on the quality of the human environment. Based on the finding of no significant impact, the Administrator of the Animal and Plant Health Inspection Service has determined that an environmental impact statement need not be prepared.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment and finding of no significant impact may be viewed on the Regulations.gov Web site.² Copies of the environmental assessment and finding of no significant impact are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

² Go to http://www.regulations.gov, click on the “Advanced Search” tab and select “Docket Search.” In the Docket ID field, enter APHIS-2005-0111, click on “Submit,” then click on the Docket ID link in the search results page. The environmental assessment and finding of no significant impact will appear in the resulting list of documents.

Paperwork Reduction Act

In accordance with the Paperwork Reduction Act of 1995 (44 U.S.C. 3501 et. seq.), the information collection or recordkeeping requirements included in this rule have been approved by the Office of Management and Budget (OMB) under OMB control number 0579-0284.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this rule, please contact Mrs. Celeste Sickles, APHIS” Information Collection Coordinator, at (301) 734-7477.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.41-1, a new paragraph (d) is added to read as follows:

§ 319.41-1 Plant products permitted entry.¹

¹ Except as provided in § 319.41-6 the regulations in this subpart do not authorize importations through the mails.

* * * * *

(d) Immature, dehusked “baby” sweet corn may be imported from Zambia in accordance with § 319.56-2f(a).

3. A new § 319.56-2f is added to read as follows:

§ 319.56-2f Conditions governing the entry of baby corn and baby carrots from Zambia.

(a) Immature, dehusked “baby” sweet corn (Zea mays L.) measuring 10 to 25 millimeters (0.39 to 0.98 inches) in diameter and 60 to 105 millimeters (2.36 to 4.13 inches) in length may be imported into the continental United States from Zambia only under the following conditions:

(1) The production site, which is a field, where the corn has been grown must have been inspected at least once during the growing season and before harvest for the following pest: Phomopsis jaczewskii.

(2) After harvest, the corn must be inspected by Zambia's national plant protection organization (NPPO) and found free of the pests listed in paragraph (a)(1) of this section before the corn may be shipped to the continental United States.

(3) The corn must be inspected at the port of first arrival as provided in § 319.56-6.

(4) Each shipment must be accompanied by a phytosanitary certificate issued by the NPPO of Zambia that includes an additional declaration stating that the corn has been inspected and found free of Phomopsis jaczewskii based on field and packinghouse inspections.

(5) The corn may be imported in commercial shipments only.

(b) Immature “baby” carrots (Daucus carota L. ssp. sativus) for consumption measuring 10 to 18 millimeters (0.39 to 0.71 inches) in diameter and 50 to 105 millimeters (1.97 to 4.13 inches) in length may be imported into the continental United States from Zambia only under the following conditions:

(1) The production site, which is a field, where the carrots have been grown must have been inspected at least once during the growing season and before harvest for the following pest: Meloidogyne ethiopica.

(2) After harvest, the carrots must be inspected by the NPPO of Zambia and found free of the pests listed in paragraph (b)(1) of this section before the carrots may be shipped to the continental United States.

(3) The carrots must be inspected at the port of first arrival as provided in § 319.56-6.

(4) Each shipment must be accompanied by a phytosanitary certificate issued by the NPPO of Zambia that includes an additional declaration stating that the carrots have been inspected and found free of Meloidogyne ethiopica based on field and packinghouse inspections.

(5) The carrots must be free from leaves and soil.

(6) The carrots may be imported in commercial shipments only.

(Approved by the Office of Management and Budget under control number 0579-0284)
Done in Washington, DC, this 19th day of May 2006.
W. Ron DeHaven,
Administrator, Animal and Plant Health Inspection Service.

[FR Doc. 06-4813 Filed 5-23-06; 8:45 am]

BILLING CODE 3410-34-P